DEPARTMENT OF ENERGY

Federal Energy Regulatory Commission

[Project No. 2035-099]

City and County of Denver, Colorado; Notice of Availability of Final Supplemental Environmental Assessment

In accordance with the National Environmental Policy Act of 1969 and the Federal Energy Regulatory Commission's (Commission or FERC) regulations, 18 Code of Federal Regulations (CFR) Part 380, Commission staff prepared a Final Supplemental Environmental Assessment (Supplemental EA), to supplement a U.S. Army Corps of Engineers' (Corps) Final Environmental Impact Statement (Final EIS) completed on April 25, 2014. The Corps' Final EIS addressed a proposal by the City and County of Denver, Colorado (Denver Water) to enlarge its Moffat Collection System. The Commission acted as a cooperating agency in the preparation of the Final EIS because Gross Reservoir, a component of the Moffat Collection System which would be enlarged under the proposal, is also a feature of the Commission-licensed Gross Reservoir Hydroelectric Project No. 2035. On November 25, 2016, Denver Water filed with the Commission its application to raise the project's Gross Dam, enlarge Gross Reservoir, and amend the project license. The project is located on South Boulder Creek near the City of Boulder, Boulder County, Colorado. It occupies a total of 1,056.92 acres of federal lands within the Roosevelt National Forest administered by the U.S. Forest Service, and lands administered by the U.S. Bureau of Land Management.

The Final Supplemental EA analyzes potential environmental effects specific to a Commission approval of Denver Water's proposal, including amendment of the project license, which were not addressed in the 2014 Final EIS. Based on staff's independent analysis in the Supplemental EA, Commission approval of Denver Water's proposal, as mitigated by the environmental measures discussed in the Final Supplemental EA, would not constitute a major federal action significantly affecting the quality of the human environment.

A copy of the Final Supplemental EA is available for review at the Commission in the Public Reference Room or may be viewed on the Commission's website at http://www.ferc.gov/docs-filing/efiling.asp using the “eLibrary” link. Enter the docket number excluding the last three digits in the docket number field to access the document. For assistance, contact FERC Online Support at FERCOnlineSupport@ferc.gov or toll-free at 1-866-208-3676, or for TTY, 202-502-8659.

For further information, contact Rebecca Martin by telephone at 202-502-6012 or by email at Rebecca.Martin@ferc.gov.

Dated: February 8, 2019.
Kimberly D. Bose,
Secretary.

[FR Doc. 2019-02334 Filed 2-13-19; 8:45 am]

BILLING CODE 6717-01-P